DEPARTMENT OF TRANSPORTATION

Federal Aviation Administration

Notice of Availability of the Record of Decision for the Final Environmental Impact Statement and the Alaska National Interest Lands Conservation Act Section 810 Analysis of Impacts to Subsistence Resources for Proposed Improvement Activities at the Sitka Rocky Gutierrez Airport, Sitka, AK

AGENCY: Federal Aviation Administration, Department of Transportation.

ACTION: Notice of availability.

SUMMARY: The Federal Aviation Administration (FAA) is publishing this notice to advise the public that the FAA has issued a Record of Decision (ROD) for the Final Environmental Impact Statement (Final EIS) and Alaska National Interest Lands Conservation Act (ANILCA) Section 810 Evaluation for Proposed Improvement Activities at the Sitka Rocky Gutierrez Airport (SIT) on September 28, 2009. The ROD provides final agency determinations and approvals for the proposed airport improvement activities.

Record of Decision Availability: Copies of the ROD may be viewed during regular business hours at the following locations:

1. Kettleson Memorial Library, 320 Harbor Drive, Sitka, AK 99835. (907) 747-8708.

2. Downtown Juneau Public Library, 292 Marine Way, Juneau, AK 99801. (907) 586-5249.

The ROD is posted to the following Web site: http://www.faa.gov/airports/environmental/records_decision/. Additionally, the FAA, Airports Division has a limited number of copies of the ROD available for public distribution. Please contact the FAA at (907) 271-5438 for a copy.

SUPPLEMENTARY INFORMATION: The ROD provides final determinations and approvals by the FAA for federal actions needed to enhance aviation safety and protect current and future aviation uses at Sitka Rocky Gutierrez Airport, Sitka, Alaska. Included within the ROD are descriptions of the six projects proposed by the Airport Sponsor (the Alaska Department of Transportation and Public Facilities) and the documented need for each project, alternatives to the proposed actions, environmental impacts associated with the actions and alternatives, and mitigation measures required to avoid or minimize environmental harm. The ROD also discloses the federal, state, and local actions needed prior to the implementation of each of the projects and provides findings, certifications, and determinations concerning resources of special concern. Conditions of approval that must be met by the Alaska Department of Transportation and Public Facilities prior to construction are also listed. The ROD identifies the FAA's preferred and environmentally preferred alternatives, as well as those alternatives selected by the FAA for implementation. Additionally, the ROD explains the authorization that must be granted by the Department of Interior's Bureau of Land Management to convey federal lands to the state of Alaska for aviation and airport uses.

The FAA's selected alternatives identified in the ROD are:

• Runway Safety Area Alternative 5: Declared Distances with 280-Foot Landmass Expansion on Runway End 29 and Additional Runway Pavement

• Parallel Taxiway Alternative 3: Partial Extension of the Parallel Taxiway to Charcoal Island

• Seaplane Pullout Alternative 2: Construction of Fixed Ramp Seaplane Pullout on Charcoal Island

• Approach Lighting System Alternative 1: No Action

• Seawall Alternative 1: No Action

• Land Transfer Alternative 2: Transfer of Property Rights within Airport Boundary to Alaska from the United States using a Combination of Title Conveyance and Long-Term Lease or Easement

The ROD also provides the final determination on the ANILCA Section 810 Evaluation for the actions included in the Final EIS. Section 810 of ANILCA requires an evaluation of the effects of alternatives presented in this Final EIS on subsistence activities occurring on public lands located in the planning area. The evaluation in the Final EIS indicates that none of the alternatives significantly restrict subsistence activities.

The notice of availability for the Final EIS was published by the Environmental Protection Agency on May 22, 2009. The FAA issued its ROD on the Final EIS on September 28, 2009.

FOR FURTHER INFORMATION CONTACT: Patricia Sullivan, Environmental Specialist, Federal Aviation Administration, Alaskan Region, Airports Division, 222 W. 7th Avenue, #14, Anchorage, AK 99513-7504. Ms. Sullivan may be contacted during business hours at (907) 271-5454 (phone) and (907) 271-2851 (facsimile).

Issued in Anchorage, Alaska on October 19, 2009.
Patricia A. Sullivan,
Acting Manager, Airports Division, Alaskan Region.

[FR Doc. E9-25834 Filed 10-28-09; 8:45 am]

BILLING CODE 4910-13-M